DEPARTMENT OF TRANSPORTATION

Federal Aviation Administration

Thirteenth Meeting: RTCA Special Committee 217, Terrain and Airport Mapping Databases, Joint With EUROCAE WG-44

AGENCY: Federal Aviation Administration (FAA), U.S. Department of Transportation (DOT).

ACTION: Meeting Notice of RTCA Special Committee 217, Terrain and Airport Mapping Databases, Joint with EUROCAE WG-44.

SUMMARY: The FAA is issuing this notice to advise the public of the thirteenth meeting of RTCA Special Committee 217, Terrain and Airport Mapping Databases, Joint with EUROCAE WG-44.

DATES: The meeting will be held September 10-14, 2012, from 9:00 a.m.-5:00 p.m.

ADDRESSES: The meeting will be held at Honeywell Prague Facility, V parku 16, 148 00 Prague 4, Czech Republic.

FOR FURTHER INFORMATION CONTACT: The RTCA Secretariat, 1150 18th Street NW., Suite 910, Washington, DC, 20036, or by telephone at (202) 833-9339, fax at (202) 833-9434, or Web site at http://www.rtca.org. For more information on this meeting contact: John Kasten, john.kasten@jeppesen.com, telephone (303) 328-4535 or mobile telephone (303) 260-9652. Stephane Dubet, stephane.dubet@aviation-civile.gouv.fr, telephone, 33-5 57 92 57 81, mobile telephone, 33-6 10 74 56 00. Honeywell's Prague facility must screen visitors at least one week in advance of the meeting, please contact Allan Hart at allan.hart@honeywell.com if you plan to attend.

SUPPLEMENTARY INFORMATION: Pursuant to section 10(a)(2) of the Federal Advisory Committee Act (Pub. L. No. 92-463, 5 U.S.C., App.), notice is hereby given for a meeting of Special Committee 217. The agenda will include the following:

September 10-14, 2012

• Open Plenary Session

• Chairmen's remarks and introductions

• Housekeeping

• Approve minutes from previous meeting

• Review and approve meeting agenda

• Schedule for this week

• Finalize Draft DO-xxx/ED-xxx for FRAC

• Finalize Draft Guidance Material ER-xxx

• Re-Author Action Item Listings

• Review ToR Presentation

• Full Committee Working Group ASRN V&V Document (DO-xxx/ED-xxx)

• Guidance Material Working Group

• Re-authority the various Action Item Listings

• Review Results of ToR presentation to PMC

• Any other business

• Plenary Session Adjourned

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 1, 2012.
Kathy Hitt,
Management Analyst, Business Operations Branch, Federal Aviation Administration.

[FR Doc. 2012-19448 Filed 8-7-12; 8:45 am]

BILLING CODE 4910-13-P